DEPARTMENT OF ENERGY

Federal Energy Regulatory Commission

[Project No. 15113-000]

Kinet, Inc.; Notice of Preliminary Permit Application Accepted for Filing and Soliciting Comments, Motions To Intervene, and Competing Applications

On April 12, 2021, Kinet, Inc., filed an application for a preliminary permit, pursuant to section 4(f) of the Federal Power Act, proposing to study the feasibility of the Coons Rapid Hydroelectric Project to be located on the Mississippi River, near the Towns of Brooklyn Park and Coon Rapids, in Hennepin County, Minnesota. The sole purpose of a preliminary permit, if issued, is to grant the permit holder priority to file a license application during the permit term. A preliminary permit does not authorize the permit holder to perform any land-disturbing activities or otherwise enter upon lands or waters owned by others without the owners' express permission.

The proposed project would utilize the impoundment formed by the Hennepin County Dam owned and operated by Suburban Hennepin Regional Park District (Three Rivers Park District) and consist of the following: (1) An existing 975-foot-long by 35-foot-high concrete dam; (2) a 160-square-mile reservoir with a normal storage volume of 1,380 acre-feet at a normal pool elevation of 830 feet mean sea level; (3) three 52-foot-long by 102-foot-wide by 33-foot-high concrete- intake structures with varying depths of between 8 to 32 feet; (4) a new 120-foot-wide by 60-foot-long by 33-foot-high concrete powerhouse containing fifteen 751-kilowatt (kW) turbine-generators for a total project capacity of 10,275 kW; (5) a 54-foot-long by 306-foot-wide tailrace; (6) a 1,200-foot-long, 115-kilovolt transmission line; and (7) appurtenant facilities. The estimated annual generation of the Coon Rapids Hydroelectric Project would be 62,539 megawatt-hours.

Applicant Contact: Mr. Dan Panko, Kinet, Inc, 2401 Monarch Street, Alameda, CA 94501; phone: (802) 578-7973; email: kinet@natelenergy.com.

FERC Contact: Tyrone Williams; phone: (202) 502-6331.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15113-000.

More information about this project, including a copy of the application, can be viewed or printed on the “eLibrary” link of Commission's website at http://www.ferc.gov/docs-filing/elibrary.asp. Enter the docket number (P-15113) in the docket number field to access the document. For assistance, contact FERC Online Support.

Dated: September 8, 2021.
Kimberly D. Bose,
Secretary.

[FR Doc. 2021-19785 Filed 9-13-21; 8:45 am]

BILLING CODE 6717-01-P